DEPARTMENT OF EDUCATION

[Docket No.: ED-2023-SCC-0155]

Agency Information Collection Activities; Comment Request; REL Peer Review: Pilot Data Collection Methods for Examining the Use of Research Evidence

AGENCY: Institute of Education Sciences (IES), Department of Education (ED).

ACTION: Notice.

SUMMARY: In accordance with the Paperwork Reduction Act (PRA) of 1995, the Department is proposing a new information collection request (ICR).

DATES: Interested persons are invited to submit comments on or before October 30, 2023.

ADDRESSES: To access and review all the documents related to the information collection listed in this notice, please use http://www.regulations.gov by searching the Docket ID number ED-2023-SCC-0155. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave. SW, LBJ, Room 4C210, Washington, DC 20202-8240.

FOR FURTHER INFORMATION CONTACT: For specific questions related to collection activities, please contact Christopher Boccanfuso, 202-245-6832.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: REL Peer Review: Pilot Data Collection Methods for Examining the Use of Research Evidence.

OMB Control Number: 1850-NEW.

Type of Review: A new ICR.

Respondents/Affected Public: Individuals and households.

Total Estimated Number of Annual Responses: 115.

Total Estimated Number of Annual Burden Hours: 43.

Abstract: The Institute of Education Sciences (IES) within the U.S. Department of Education (ED) requests clearance for data collection activities to support a pilot study of the reliability and validity of survey items used to assess the use of research evidence (URE) among education agencies and other partners served by the Regional Educational Laboratories (RELs). The REL program is an essential IES investment focused on partnering with State and local education agencies use evidence to improve education outcomes by creating tangible research products and providing engaging learning experiences and consultation. IES seeks to better understand how REL partners use research evidence to improve education outcomes and the role of RELs in promoting URE among partners. This study will test the reliability and validity of new and extant URE items in the REL context. Specifically, the study will (1) assess how existing items from the URE literature perform in a REL context and (2) assess the reliability and validity of a small set of items from the Stakeholder Feedback Surveys (SFS) that are currently administered to REL partners and used by IES to improve the work of REL contractors, inform the REL program as a whole, and address internal requests such as the Congressional Budget Justification. The reliability and validity of the new and existing survey items will be assessed through two data collection activities: an online survey administered to a set of partnerships across RELs and follow-up interviews with a subset of REL partners.

Dated: August 28, 2023.
Stephanie Valentine,
PRA Coordinator, Strategic Collections and Clearance, Governance and Strategy Division, Office of Chief Data Officer, Office of Planning, Evaluation and Policy Development.

[FR Doc. 2023-18875 Filed 8-30-23; 8:45 am]

BILLING CODE 4000-01-P